DEPARTMENT OF LABOR

Employment and Training Administration

[TA-W-39,574]

SGL Carbon Group, Morganton, North Carolina; Notice of Revised Determination on Reconsideration

By letter of November 5, 2001, the International Chemical Workers Union, AFL-CIO, Local 427, requested administrative reconsideration regarding the Department's Negative Determination Regarding Eligibility to Apply for Worker Adjustment Assistance, applicable to the workers of the subject firm.

The initial investigation resulted in a negative determination issued on September 21, 2001, based on the finding that imports of graphite electrodes and specialty graphite products did not contribute importantly to worker separations at the subject plant. The denial notice was published in the Federal Register on October 11, 2001 (66 FR 51973).

To support the request for reconsideration, the International Chemical Workers Union, AFL-CIO, Local 427 provided additional information indicating that a sister plant (SGL Carbon Corporation, Carbon and Graphite Unit, Niagara Falls, New York) was certified for TAA. The applicant further stated that the subject plant produced the same products, shared the same customers and conducted interplant shipments with the sister facility.

A review of the allegation and information provided by the company shows that a meaningful portion of subject plant production was in direct support of the SGL Carbon Corporation, Carbon and Graphite Unit, Niagara Falls, New York plant. That facility was certified TA-W-39,053) on August 31, 2001.

Conclusion

After careful review of the additional facts obtained on reconsideration, I conclude that increased imports of articles like or directly competitive with those produced at SGL Carbon Group, Morganton, North Carolina, contributed importantly to the decline in sales or production and to the total or partial separation of workers at the subject firm. In accordance with the provisions of the Act, I make the following certification:

All workers of SGL Carbon Group, Morganton, North Carolina, who became totally or partially separated from employment on or after March 29, 2000 through two years from the date of this certification, are eligible to apply for adjustment assistance under Section 223 of the Trade Act of 1974.

Dated: Signed in Washington, DC this 28th day of February 2002.
Edward A. Tomchick,
Director, Division of Trade Adjustment Assistance.

[FR Doc. 02-6669 Filed 3-19-02; 8:45 am]

BILLING CODE 4510-30-M